DEPARTMENT OF ENERGY

Federal Energy Regulatory Commission

[Docket No. IC19-40-000]

Commission Information Collection Activities (FERC-516a); Comment Request; Extension

AGENCY: Federal Energy Regulatory Commission.

ACTION: Notice of information collection and request for comments.

SUMMARY: In compliance with the requirements of the Paperwork Reduction Act of 1995, the Federal Energy Regulatory Commission (Commission or FERC) is soliciting public comment on the currently approved information collection FERC-516A (Standardization of Small Generator Interconnection Agreements and Procedures) and submitting the information collection to the Office of Management and Budget (OMB) for review. Any interested person may file comments directly with OMB and should address a copy of those comments to the Commission as explained below. On September 4, 2019, the Commission published a Notice in the Federal Register (84 FR 46506) in Docket No. IC19-40-000 requesting public comments. The Commission received no public comments.

DATES: Comments on the collection of information are due December 12, 2019.

ADDRESSES: Comments filed with OMB, identified by OMB Control No. 1902-0203, should be sent via email to the Office of Information and Regulatory Affairs: oira_submission@omb.gov. Attention: Federal Energy Regulatory Commission Desk Officer.

A copy of the comments should also be sent to the Commission, in Docket No. IC19-40-000, by either of the following methods:

• eFiling at Commission's Website: http://www.ferc.gov/docs-filing/efiling.asp.

• Mail/Hand Delivery/Courier: Federal Energy Regulatory Commission, Secretary of the Commission, 888 First Street NE, Washington, DC 20426.

Instructions: All submissions must be formatted and filed in accordance with submission guidelines at: http://www.ferc.gov/help/submission-guide.asp. For user assistance, contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION:

Title: FERC-516A, Standardization of Small Generator Interconnection Agreements and Procedures.

OMB Control No.: 1902-0203.

Type of Request: Three-year extension of the FERC-516A information collection requirements with no changes to the current requirements.

Abstract: Under Sections 205 and 206 of the Federal Power Act (FPA), the Commission is charged with ensuring just and reasonable electric transmission rates and charges as well as ensuring that jurisdictional providers do not subject any person to any undue prejudice or disadvantage.

The lack of consistent and readily accessible terms and conditions for connecting resources to the grid led to a large number of disputes between jurisdictional transmission providers and small generators in the late 1990s and early 2000s. In response, the Commission directed transmission providers to include Commission-approved, standard, pro-forma interconnection procedures (small generator interconnection procedures or SGIP) and a single uniformly applicable interconnection agreement (small generator interconnection agreement or SGIA) in their open-access transmission tariffs (OATTs). The requirement to create and file these documents was instituted in August 2005 by Commission Order No. 2006 and is codified in 18 CFR 35.28(f). This requirement set and maintained a standard in OATTs for consistent consideration and processing of interconnection requests by transmission providers.

Since the issuance of Order No. 2006, many aspects of the energy industry have changed including the growth of small generator interconnection requests and the growth in solar photovoltaic (PV) installations. These changes have been driven, in part, by state renewable energy goals and policies. For example, approximately 3,300 MW of grid-connected PV capacity were installed in the U.S. in 2012, compared to 79 MW in 2005, the year Order No. 2006 was issued.

In February 2012, pursuant to Sections 205 and 206 of the FPA and Rule 207 of the Commission's Rules of Practice and Procedures,¹ and noting that the Commission encouraged stakeholders to submit proposed revisions to the regulations set forth in Order No. 2006, the Solar Energy Industries Association (SEIA) filed a Petition to Initiate Rulemaking (Petition).² The Petition requested the Commission revise the pro forma SGIA and SGIP set forth in Order No. 2006. SEIA asserted that the pro forma SGIP and SGIA as applied to small solar generation were no longer just and reasonable, had become unduly discriminatory, and presented unreasonable barriers to market entry. SEIA noted that its Petition would apply exclusively to solar electric generation due to its unique characteristics.

¹ 18 CFR 385.207.

² SEIA Petition at 4 (citing Order No. 2006, FERC Stats. & Regs. 31,180 at P 118). Docket No. RM12-10-000, https://elibrary.ferc.gov/idmws/common/opennat.asp?fileID=12895647.

In 2012 the Commission issued a Notice of Petition for Rulemaking in Docket No. RM12-10-000 and began a public process to explore SEIA's Petition through the Commission's formal notice and comment process as well as technical conferences.

In November 2013, the Commission issued Order No. 792 to amend the pro forma Small Generator Interconnection Procedures and pro forma Small Generator Interconnection Agreement. Order No. 792:

(1) Incorporated provisions that provided an Interconnection Customer with the option of requesting from the Transmission Provider a pre-application report providing existing information about system conditions at a possible Point of Interconnection;

(2) revised the 2 megawatt (MW) threshold for participation in the Fast Track Process included in section 2 of the pro forma SGIP;

(3) revised the customer options meeting and the supplemental review following failure of the Fast Track screens so that the supplemental review is performed at the discretion of the Interconnection Customer and includes minimum load and other screens to determine if a Small Generating Facility may be interconnected safely and reliably;

(4) revised the pro forma SGIP Facilities Study Agreement to allow the Interconnection Customer the opportunity to provide written comments to the Transmission Provider on the upgrades required for interconnection;

(5) revised the pro forma SGIP and the pro forma SGIA to specifically include energy storage devices; and

(6) clarified certain sections of the pro forma SGIP and the pro forma SGIA.

With these modifications, the Commission concluded that the package of reforms adopted in Order No. 792 would reduce the time and cost to process small generator interconnection requests for Interconnection Customers and Transmission Providers, maintain reliability, increase energy supply, and remove barriers to the development of new energy resources.

Type of Respondents: Jurisdictional transmission service providers.

Estimate of Annual Burden: ³ The Commission estimates the following burden and cost.⁴

³ Burden is the total time, effort, or financial resources expended by persons to generate, maintain, retain, or disclose or provide information to or for a Federal agency. For further explanation of what is included in the information collection burden, refer to Title 5 Code of Federal Regulations Part 1320.

⁴ The hourly estimates for wages plus benefits are derived from the Bureau of Labor Statistics (at http://bls.gov/oes/current/naics3_221000.htm and http://www.bls.gov/news.release/ecec.nr0.htm). For wages plus benefits, we are using $84.38 per hour, which is the average for an attorney (occupation code 23-0000, $142.86/hour), an electrical engineer (occupation code 17-2071, $68.17/hour), and administrative staff (occupation code 43-0000, $42.11/hour).

FERC-516A
Requirements ⁵ | Number of respondents annually | Annual number of responses per respondent | Total number of responses (rounded) | Average burden & cost ($) per response | Total annual burden hours & total annual cost ($) (rounded) | Cost per respondent ($)
| (1) | (2) | (1) * (2) = (3) | (4) | (3) * (4) = (5) | (5) ÷ (1)
Maintenance of Documents—Transmission Providers | 46 | 1 | 46 | 1 hr.; $84.38 | 46 hrs.; $3,881 | $84.38
Filing of Agreements—Transmission Providers | 95 | 1 | 95 | 25 hrs.; $2,109.50 | 2,375 hrs.; $200,403 | 2,109.50
Pre-Application Report—Interconnection Customers ⁶ | 800 | 1 | 800 | 1 hr.; $84.38 | 800 hrs.; $67,504 | 84.38
Pre-Application Report—Transmission Providers | 142 | 5.63 | 800 | 2.5 hrs.; $210.95 | 2,000 hrs.; $168,760 | 1,188.45
Supplemental Review—Interconnection Customers | 500 | 1 | 500 | 0.5 hr.; $42.19 | 250 hrs.; $21,095 | 42.19
Supplemental Review—Transmission Providers | 142 | 3.52 | 500 | 20 hrs.; $1,687.60 | 10,000 hrs.; $843,800 | 5,942.25
Review of Required Upgrades—Interconnection Customers | 250 | 1 | 250 | 1 hr.; $84.38 | 250 hrs.; $21,095 | 84.38
Review of Required Upgrades—Transmission Providers | 142 | 1.76 | 250 | 2 hrs.; $168.76 | 500 hrs.; $42,190 | 297.11
Total |  |  | 3,241 |  | 16,221 hrs.; $1,368,728 |

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

⁵ All requirements for transmission providers are mandatory. All requirements for interconnection customers are voluntary.

⁶ We assume each request for a pre-application report corresponds with one Interconnection Customer.

Dated: November 5, 2019.
Kimberly D. Bose,
Secretary.

[FR Doc. 2019-24565 Filed 11-8-19; 8:45 am]

BILLING CODE 6717-01-P